ENVIRONMENTAL PROTECTION AGENCY

40 CFR Part 52

[EPA-R09-OAR-2025-0084; FRL-12611-01-R9]

Determination of Attainment by the Attainment Date; California; Mariposa County; 2015 8-Hour Ozone National Ambient Air Quality Standards

AGENCY: Environmental Protection Agency (EPA).

ACTION: Proposed rule.

SUMMARY: The Environmental Protection Agency (EPA) is proposing to determine that the Mariposa County nonattainment area in California (“Mariposa area”), classified as “Moderate” for the 2015 ozone national ambient air quality standards (NAAQS or “standard”), attained the 2015 ozone NAAQS by the August 3, 2024 attainment date. Our proposed determination of attainment is based upon the exclusion of exceedances of the 2015 ozone NAAQS that occurred on multiple days in 2021 and 2022, because the exceedances are due to exceptional events. This action, if finalized as proposed, will fulfill the EPA's statutory obligation to determine whether the Mariposa area attained the NAAQS by the August 3, 2024 attainment date.

DATES: Comments must be received by July 3, 2025.

ADDRESSES: Submit your comments, identified by Docket ID No. EPA-R09-OAR-2025-0084 at https://www.regulations.gov. For comments submitted at Regulations.gov, follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. If you need assistance in a language other than English or if you are a person with disabilities who needs a reasonable accommodation at no cost to you, please contact the person identified in the FOR FURTHER INFORMATION CONTACT section.

FOR FURTHER INFORMATION CONTACT: Roxana Sierra-Hernández, Air Planning Office (AIR-2), EPA Region IX, 75 Hawthorne Street, San Francisco, CA 94105. By phone at (213) 244-1891, or by email at Sierrahernandez.roxana@epa.gov.

SUPPLEMENTARY INFORMATION: Throughout this document, “we,” “us,” and “our” refer to the EPA.

Table of Contents

I. Background

A. Statutory and Regulatory Background

B. Mariposa Area Designation for the 2015 Ozone NAAQS

II. EPA Analysis

A. Applicable Statutory and Regulatory Provisions

B. Proposed Determination of Attainment by the Attainment Date

C. Monitoring Network Considerations

D. Data Considerations

E. Effects of This Proposal

III. Summary of Proposal

IV. Statutory and Executive Order Reviews

I. Background

A. Statutory and Regulatory Background

Under section 109 of the Clean Air Act (CAA or “the Act”), the EPA promulgates NAAQS for pervasive air pollutants, such as ozone. The NAAQS are concentration limits the EPA has determined to be requisite to protect public health and welfare.

Ground-level ozone pollution is formed from the reaction of volatile organic compounds (VOC) and oxides of nitrogen (NOX) in the presence of sunlight.¹ These two pollutants, referred to as ozone precursors, are emitted by many types of sources, including on- and off-road motor vehicles and engines, power plants and industrial facilities, and smaller area sources such as lawn and garden equipment and paints.

¹ The State of California refers to reactive organic gases (ROG) in some of its ozone-related SIP submissions. As a practical matter, ROG and VOC refer to the same set of chemical constituents, and for the sake of simplicity, we refer to this set of gases as VOC in this proposed rulemaking.

Scientific evidence indicates that adverse public health effects occur following exposure to ozone, particularly in children and adults with lung disease. Breathing air containing ozone can reduce lung function and inflame airways, which can increase respiratory symptoms and aggravate asthma or other lung diseases.²

² “Fact Sheet—2008 Final Revisions to the National Ambient Air Quality Standards for Ozone,” dated March 2008.

The EPA has previously promulgated NAAQS for ozone in 1979, 1997, and 2008.³ In 2015, the EPA revised the NAAQS to 0.070 parts per million (ppm) (“2015 ozone NAAQS”) to replace the 2008 ozone NAAQS of 0.075 ppm.⁴ Most recently, in December 2020, the EPA finalized review of the ozone NAAQS, retaining the form and level of the standards. As such, no ozone area designations were triggered under the CAA, and therefore, no nonattainment areas were designated and no new requirements were triggered.⁵

³ 44 FR 8202 (February 8, 1979), 62 FR 38856 (July 18, 1997), and 73 FR 16436 (March 27, 2008).

⁴ 80 FR 65292 (October 26, 2015).

⁵ 85 FR 87256 (December 31, 2020).

Following promulgation of a new or revised NAAQS, the EPA is required by CAA section 107(d) to designate areas throughout the nation as either attaining or not attaining the standards. The EPA must designate an area as nonattainment if it is violating a standard or if it has sources contributing to a violation of a standard in a nearby area. The EPA makes designations and classifications individually for each area and each standard. For ozone standards, the EPA classifies nonattainment areas as “Marginal,” “Moderate,” “Serious,” “Severe,” or “Extreme,” depending upon ambient air monitoring data calculated as an ozone design value for the area at the time of designation.⁶ An ozone nonattainment area with a higher classification is subject to a greater number of, and more stringent, CAA planning and control requirements than lower classification areas, but the state is provided more time to attain the NAAQS.⁷

⁶ See CAA section 181(a)(1).

⁷ See generally, subpart 2 of part D of title I of the CAA.

B. Mariposa Area Designation for the 2015 Ozone NAAQS

The Mariposa area is located in the southern portion of the Sierra Nevada Mountain range of the State of California, and its boundaries align with Mariposa County boundaries.⁸

⁸ See 40 CFR 81.305.

Effective August 3, 2018, the EPA designated the Mariposa area as nonattainment for the 2015 ozone NAAQS and classified the area as Marginal.⁹ Areas classified as Marginal must attain the NAAQS within 3 years of the effective date of the nonattainment designation.¹⁰ Following this initial classification as Marginal, the EPA found in 2022 that the area did not attain the 2015 ozone standards by the Marginal attainment deadline of August 3, 2021.¹¹ As a result of our finding, the area was reclassified by operation of law to Moderate nonattainment. Moderate nonattainment areas have 6 years to attain the standard, and the Moderate attainment date for the Mariposa area was August 3, 2024.¹²

⁹ 83 FR 25776 (June 4, 2018).

¹⁰ See CAA section 181(a)(1), 40 CFR 51.1102.

¹¹ 87 FR 60897 (October 7, 2022).

¹² Id.

II. EPA Analysis

A. Applicable Statutory and Regulatory Provisions

The EPA is required to determine whether areas designated nonattainment attained the NAAQS by the applicable attainment date, and to take certain steps for areas that failed to attain.¹³ For the 2015 ozone NAAQS, the determination of attainment or failure to attain is based on a nonattainment area's design value. Under EPA regulations at 40 CFR part 50, appendix U, the 2015 ozone NAAQS is attained at a site when the design value (i.e., the 3-year average of the annual fourth highest daily maximum 8-hour average ambient air quality ozone concentration) does not exceed 0.070 ppm.¹⁴

¹³ CAA section 181(b)(2).

¹⁴ The data handling convention in Appendix P dictates that concentrations shall be reported in ppm to the third decimal place, with additional digits to the right being truncated. Thus, a computed 3-year average ozone concentration of 0.071 ppm is greater than 0.070 ppm and would exceed the standard, but a design value of 0.0709 is truncated to 0.070 and attains the 2015 ozone NAAQS.

The EPA's proposed determination of attainment is based upon data that have been collected and quality-assured in accordance with 40 CFR part 58 and recorded in the EPA's Air Quality System (AQS) database. Ambient air quality monitoring data for the 3-year period preceding the attainment date must meet the data completeness requirements in Appendix U.¹⁵ The completeness requirements are met for the 3-year period at a monitoring site if daily maximum 8-hour average concentrations of ozone are available for at least 90 percent of the days within the ozone monitoring season, on average, for the 3-year period, and no single year has less than 75 percent data completeness.

¹⁵ See 40 CFR part 50, appendix U, section 4(b).

B. Proposed Determination of Attainment by the Attainment Date

The EPA is proposing this action to fulfill its statutory obligation under CAA section 181(b)(2) to determine whether the Mariposa area attained the ozone standard by its applicable attainment date. Specifically, we are proposing to determine that the Mariposa area attained the 2015 ozone NAAQS by the attainment date of August 3, 2024.

We are also proposing to determine that, if we finalize the proposed determination of attainment by the attainment date for the Mariposa area, then the requirement for the state to have contingency measures for failure to attain for the 2015 ozone NAAQS will no longer apply, because contingency measures would never be needed given the attainment of the NAAQS by the attainment date (see section II.E of this document).

C. Monitoring Network Considerations

Section 110(a)(2)(B)(i) of the CAA requires states to establish and operate air monitoring networks to compile data on ambient air quality for all criteria pollutants. There are two ozone monitoring sites in the Mariposa area, Jerseydale and Yosemite NP-Turtleback Dome. The California Air Resources Board (CARB) operates the Jerseydale ozone monitoring site between April and October when the site is physically accessible and peak ozone levels are expected, and the National Park Service operates the Yosemite NP-Turtleback Dome monitor year-round. As required under 40 CFR 58.10, CARB submits annual network plans (ANP) to the EPA documenting the status of monitoring sites and instruments operating in California, including both ozone monitors in the Mariposa area. The EPA reviews these ANP for compliance with specific requirements in 40 CFR part 58. We determined that the ANP submitted by CARB meet the minimum monitoring requirements of 40 CFR part 58.¹⁶

¹⁶ We have included copies of CARB's ANPs for 2021-2023 in the docket for this action, along with our reviews of these plans and our associated transmittal correspondence.

Finally, the EPA conducts regular Technical Systems Audits (TSAs) to review and inspect state and local ambient air monitoring programs to assess compliance with applicable regulations concerning the collection, analysis, validation, and reporting of ambient air quality data. CARB is the Primary Quality Assurance Organization (PQAO) in California that is responsible for overseeing the quality of data collected by local air monitoring organizations. For the purposes of this determination, we reviewed the findings from the EPA's most recent TSA of CARB's ambient air monitoring program.¹⁷ We found that the CARB PQAO quality system produced ozone data suitable for use in regulatory decision-making. Therefore, the results of the TSA do not preclude the EPA from determining that the Mariposa area has attained the 2015 ozone NAAQS.

¹⁷ See letter from Matthew Lakin, Director, Air and Radiation Division, U.S. EPA Region IX, to Edie Chang, Deputy Executive Officer, CARB, dated March 14, 2024, and enclosure titled “Technical Systems Audit of the Ambient Air Monitoring Program: CARB, December 2021 through August 2022.”

D. Data Considerations

Because the design value is based on three complete calendar years of data, attainment must occur no later than December 31 of the year prior to the attainment date. Accordingly, the Mariposa area, with an attainment date of August 3, 2024, must show attainment by December 31, 2023. Our proposed determination is therefore based upon the 2021-2023 design value, which is based upon complete, quality-assured, and certified ozone monitoring data from calendar years 2021, 2022, and 2023. The data the EPA is using to calculate the 2021-2023 design values can be found in the docket for this proposed rulemaking.¹⁸

¹⁸ See “U.S. EPA, Design Value Report (AMP480)” dated February 24, 2025.

1. Determination of Attainment and EPA's Analysis of Relevant Air Quality Monitoring Data

The EPA evaluated air quality data to determine if the Mariposa area attained or failed to attain the 2015 ozone NAAQS by the applicable attainment date. CARB contends that some of the exceedances or violations of the NAAQS in 2021 and 2022 were due to uncontrollable wildfire smoke. CARB submitted a request to exclude the affected data from regulatory decisions on the basis that they are exceptional events,¹⁹ and the EPA concurred. Our evaluation of the exceptional events is described in section II.D.2 of this document and the technical support document (TSD). The design values, excluding exceedances due to exceptional events, and completeness requirements for the 2021-2023 period for the two monitoring sites in the Mariposa area are summarized in Table 1.

¹⁹ CARB, “Exceptional Events Demonstration for Ozone Exceedances Mariposa County Wildfire Impacts 2021-2022,” September 26, 2024.

Table 1—2015 Ozone NAAQS Monitoring Data Summary for the Mariposa Area ᵃ
AQS site ID | Monitoring site name | 4th Highest daily maximum 8-hour average value (ppm): 2021 | 4th Highest daily maximum 8-hour average value (ppm): 2022 | 4th Highest daily maximum 8-hour average value (ppm): 2023 | 2021-2023 Design value (ppm) ᵃ | Percent valid days (data completeness): 2021 | Percent valid days (data completeness): 2022 | Percent valid days (data completeness): 2023 | 2021-2023 Average percent valid days
06-043-0003 | Yosemite NP-Turtleback Dome | 0.077 | 0.067 | 0.068 | 0.070 | 98 | 100 | 99 | 99
06-043-0006 | Jerseydale | 0.081 | 0.070 | 0.060 | 0.070 | 92 | 87 | 92 | 90
ᵃ The data shown exclude exceedances due to exceptional events.
Source: EPA, AQS Design Value (AMP 480), Report Request ID: 2265346, February 24, 2025.

As explained in section II.A of this document, the 2015 ozone NAAQS is met at an ambient monitoring site when the design value for the area does not exceed 0.070 ppm. The design values in Table 1 of this document show that the Mariposa area has met the 2015 ozone NAAQS. Additionally, Table 1 of this document shows that the minimum data completeness requirements are also met because the average percent of days with valid ambient monitoring data are at least 90 percent, and no single year has less than 75 percent data completeness in both monitoring sites. The design value reports from the EPA's AQS database, and data certification materials from CARB for the relevant years can be found in the docket for this proposed rulemaking.

2. Exceptional Events Evaluation

Congress has recognized that it may not be appropriate for the EPA to use certain monitoring data, collected by the ambient air quality monitoring network and maintained in the EPA's AQS database, in certain regulatory determinations. Thus, in 2005, Congress provided the statutory authority for the exclusion of data influenced by “exceptional events” meeting specific criteria by adding section 319(b) to the CAA. To implement this section, on March 22, 2007, the EPA adopted a final rule, “Treatment of Data Influenced by Exceptional Events,” also known as the Exceptional Events Rule (EER).²⁰ On October 3, 2016, the EPA adopted revisions to this rule.²¹ Under the EER, the EPA may exclude data showing exceedances and/or violations of the NAAQS from use in specified regulatory determinations if a state demonstrates that an exceptional event caused the exceedance or violation.²² Before the EPA can exclude data from these regulatory determinations, the state must flag the data in the EPA's AQS database, notify the EPA of the state's intent to submit an exceptional event demonstration, and, after public notice and opportunity for comment, submit documentation to the EPA to justify the exclusion. The EPA considers it and concurs or nonconcurs with the state's demonstration. If the EPA concurs that the exceedance was due to an exceptional event covered under the EER, the data is excluded from regulatory determinations, including from a determination of whether the area attained a NAAQS by its attainment date.

²⁰ 72 FR 13560 (March 22, 2007).

²¹ 81 FR 68216 (October 3, 2016).

²² See 40 CFR 50.1 and 50.14.

In a submittal dated September 26, 2024,²³ with an attached transmittal letter dated September 27, 2024,²⁴ CARB provided documentation for ozone exceedances that occurred on multiple days in 2021 and 2022, and which the State had flagged as due to wildfire exceptional events. These events occurred during the August 7, 2021, August 27 through 28, 2021, and September 8 through 9, 2022, time periods. A full list of days identified as exceptional events at each monitor is included in Table 2.

²³ CARB, “Exceptional Events Demonstration for Ozone Exceedances Mariposa County Wildfire Impacts 2021-2022,” September 26, 2024.

²⁴ Letter dated September 27, 2024, from Michael Benjamin, Division Chief, Air Quality Planning and Science Division, CARB, to Matthew Lakin, Director, Air and Radiation Division, EPA Region IX.

Table 2—Exceedances and/or Violations due to Exceptional Events in the Mariposa Area for the 2015 Ozone NAAQS
Exceedance date | Monitoring site name | AQS site ID | 2015 8-hour avg. (ppm)
August 7, 2021 | Yosemite NP-Turtleback Dome | 06-043-0003 | 0.078
August 27, 2021 | Yosemite NP-Turtleback Dome | 06-043-0003 | 0.079
August 28, 2021 | Yosemite NP-Turtleback Dome | 06-043-0003 | 0.086
September 8, 2022 | Jerseydale | 06-043-0006 | 0.079
September 8, 2022 | Yosemite NP-Turtleback Dome | 06-043-0003 | 0.068
September 9, 2022 | Jerseydale | 06-043-0006 | 0.081
September 9, 2022 | Yosemite NP-Turtleback Dome | 06-043-0003 | 0.070

The EPA reviewed the documentation submitted by the State and concurred with CARB's determinations that the exceedances and/or violations identified by CARB in 2021 and 2022 were caused by wildfire exceptional events, and that these exceedances and/or violations meet the criteria for exclusion from regulatory determinations under the EER. Accordingly, the EPA concurred with the exclusion flags for the days flagged in 2021 and 2022 for these areas and is excluding the monitored exceedances or violations associated with these exceptional events from use in evaluation of whether the Mariposa area has attained the 2015 ozone NAAQS by the attainment date in accordance with CAA section 181(b)(2)(A). The TSD in the docket contains more information summarizing the EER requirements, the exceptional events, and the EPA's review process.

A concurrence letter notifying CARB of our decision was sent on February 19, 2025.²⁵ Included with the letter was the TSD setting forth in detail the bases for the EPA's concurrences.²⁶

²⁵ See letter dated February 19, 2025, from Matthew Lakin, Director, Air and Radiation Division, EPA Region IX, to Michael Benjamin, Division Chief, Air Quality Planning and Science Division, CARB.

²⁶ EPA, “Enclosure: Technical Support Document for EPA Concurrence on Ozone Exceedances Measured in Mariposa County, CA on August 2, 2021, August 27-28, 2021, and September 8-9, 2022, as Exceptional Events.”

Because the demonstration meets the criteria of the EER, the EPA is proposing to exclude from regulatory consideration data showing exceedances or violations due to exceptional events at the monitoring sites in the Mariposa area on August 7, 2021, August 27 through 28, 2021, and September 8 through 9, 2022.

E. Effects of This Proposal

1. Designation and Classification

If the EPA finalizes this proposed determination, the Mariposa area will remain designated nonattainment and will retain its current classification. A determination of attainment by the attainment date does not have the effect of redesignating an area to attainment. Redesignation of an area to attainment requires that an area has met all applicable requirements of CAA section 110 and Part D, and that the area has submitted, and the EPA has approved, a redesignation request and maintenance plan.²⁷

²⁷ Memorandum dated September 4, 1992, from John Calcagni, Director, Air Quality Management Division, EPA, to Regional Air Directors, Subject: “Procedures for Processing Requests to Redesignate Areas to Attainment.”

2. Contingency Measures

Based on our proposed finding of attainment by the applicable attainment date, we are also proposing to find that the CAA section 172(c)(9) requirement for a state implementation plan (“SIP”) to include contingency measures to be implemented in the event the area fails to attain (“attainment contingency measures”) or fails to achieve reasonable further progress (“RFP contingency measures”) will no longer apply to the Mariposa area for purposes of the 2015 ozone NAAQS.

Under CAA section 172(c)(9), attainment contingency measures must be implemented only if the area fails to attain by the attainment date. Therefore, if we finalize the determination that the Mariposa area has attained the 2015 ozone standard by the applicable attainment date, then attainment contingency measures for this NAAQS would never be required to be implemented, regardless of whether the area continues to attain the NAAQS.²⁸ This proposed finding will not prevent the EPA, in the event that the Mariposa area subsequently violates the NAAQS, from exercising its authority under the CAA to address violations of the NAAQS.²⁹

²⁸ See Bahr v. Regan, 6 F.4th 1059, 1084 (9th Cir. 2021).

²⁹ See id. at 1085.

Additionally, the RFP contingency measure requirement would no longer apply to the Mariposa area for the 2015 ozone NAAQS, for the reasons that follow. The purpose of the RFP requirements under the CAA is to “ensur[e] attainment of the applicable [NAAQS] by the applicable date.” ³⁰ Consistent with this purpose, under CAA section 182(g), ozone nonattainment areas classified Serious or higher are required to meet RFP emission reduction “milestones” and to demonstrate compliance with those milestones, except when the milestone coincides with the attainment date and the standard has been attained.³¹ This specific statutory exemption from milestone compliance demonstration submittals for areas that attained by the attainment date indicates that Congress intended that a finding that an area attained the standard—the finding made in a determination of attainment by the attainment date—would serve as a demonstration that RFP requirements for the area have been met. In other words, if a Serious or above area has attained the NAAQS by the attainment date, the RFP milestones have been sufficiently achieved. Accordingly, such a finding would also indicate that RFP contingency measures could not be triggered and are therefore no longer necessary.

³⁰ CAA section 171(1).

³¹ CAA section 182(g)(2).

In the case of Moderate areas, there are no RFP milestone compliance demonstration requirements.³² Accordingly, the EPA's long-standing interpretation is that RFP contingency measures for Moderate areas would be triggered only by a finding that the area has failed to attain the standard by the attainment date.³³ In other words, as with Serious and above areas, a determination of attainment by the attainment date for a Moderate area serves as demonstration that RFP requirements for the area have been met and that RFP contingency measures are no longer needed. Thus, the EPA concludes that RFP contingency measures for Moderate areas are no longer needed if the area has attained the relevant NAAQS. Accordingly, because we have proposed to determine that the Mariposa area has attained the 2015 ozone NAAQS by the attainment date, we are now also proposing to determine that RFP contingency measures are no longer required for this standard in this area. Therefore, if we finalize our proposed determination of attainment by the attainment date, neither attainment nor RFP contingency measures would be required for the Mariposa area for the 2015 ozone NAAQS.

³² CAA section 182(g)(1) (exempting areas classified as Moderate from milestone requirements).

³³ See 57 FR 13498, 13511 (April 16, 1992) (contrasting Moderate areas, for which “contingency measures would be needed when the area fails to attain the standard by the attainment date” with Serious and above areas, for which contingency measures would also be triggered “if the area fails to meet the rate-of-progress requirements for any milestone other than one falling on an attainment year”). See also memorandum dated March 11, 1993, from G.T. Helms, Chief Ozone/Carbon Monoxide Programs Branch, to Air Branch Chief, Regions I-X (“The test for moderate areas will be whether they attained the standard because the attainment date for moderate areas coincides with the milestone demonstration date. Failure to attain will cause an area to be required to implement its contingency measures . . .”).

III. Summary of Proposal

We are proposing to determine that the Mariposa area attained the 2015 ozone NAAQS by the August 3, 2024 attainment date based on quality-assured and certified ambient air quality monitoring data from 2021 through 2023. If this action is finalized, the CAA requirement for the SIP to provide for attainment and RFP contingency measures will no longer apply to the Mariposa area for the 2015 ozone NAAQS. If finalized, the EPA's obligation under section 181(b)(2)(A) to determine whether the Mariposa area attained by its attainment date will no longer apply and the area will not be reclassified. The area will remain designated nonattainment and thus the State will continue to comply with applicable requirements for a Moderate ozone nonattainment area.

IV. Statutory and Executive Order Reviews

This rulemaking proposes to make an attainment determination based on air quality data and would, if finalized, result in the suspension of certain Federal requirements and would not impose any additional requirements. Additional information about these statutes and Executive Orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Executive Order 14192: Unleashing Prosperity Through Deregulation

Executive Order 14192 does not apply because actions that make attainment determinations under Clean Air Act section 181(b)(2) are exempted from review under Executive Order 12866.

C. Paperwork Reduction Act (PRA)

This action does not impose an information collection burden under the PRA because this action does not impose additional requirements beyond those imposed by state law.

D. Regulatory Flexibility Act (RFA)

I certify that this action will not have a significant economic impact on a substantial number of small entities under the RFA. This action will not impose any requirements on small entities beyond those imposed by state law.

E. Unfunded Mandates Reform Act (UMRA)

This action does not contain any unfunded mandate as described in UMRA, 2 U.S.C. 1531-1538, and does not significantly or uniquely affect small governments. This action does not impose additional requirements beyond those imposed by state law. Accordingly, no additional costs to state, local, or Tribal governments, or to the private sector, will result from this action.

F. Executive Order 13132: Federalism

This action does not have federalism implications. It will not have substantial direct effects on the states, on the relationship between the national government and the states, or on the distribution of power and responsibilities among the various levels of government.

G. Executive Order 13175: Coordination With Indian Tribal Governments

This action does not have tribal implications, as specified in Executive Order 13175, because the action is not approved to apply on any Indian reservation land or in any other area where the EPA or an Indian tribe has demonstrated that a Tribe has jurisdiction, and will not impose substantial direct costs on Tribal governments or preempt Tribal law. Thus, Executive Order 13175 does not apply to this action.

H. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive Order. This action is not subject to Executive Order 13045 because it does not concern an environmental health risk or safety risk.

I. Executive Order 13211: Actions That Significantly Affect Energy Supply, Distribution, or Use

This action is not subject to Executive Order 13211, because it is not a significant regulatory action under Executive Order 12866.

J. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

List of Subjects in 40 CFR Part 52

Environmental protection, Air pollution control, Incorporation by reference, Intergovernmental relations, Nitrogen oxides, Ozone, Reporting and recordkeeping requirements, Volatile organic compounds.

(Authority: 42 U.S.C. 7401 et seq.)

Dated: May 21, 2025.
Joshua F.W. Cook,
Regional Administrator, Region IX.

[FR Doc. 2025-09999 Filed 6-2-25; 8:45 am]

BILLING CODE 6560-50-P